DEPARTMENT OF HEALTH AND HUMAN SERVICES

Centers for Disease Control and Prevention

[60-Day-17-17AUQ; Docket No. CDC-2017-0064]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on Mobile Proximity Initial User Feedback information collection project.

DATES: Written comments must be received on or before November 6, 2017.

ADDRESSES: You may submit comments, identified by Docket No. CDC-2017-0064 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact Leroy A. Richardson, Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Mobile Proximity Initial User Feedback—New—National Institute for Occupational Safety and Health (NIOSH), Centers for Disease Control and Prevention (CDC).

Background and Brief Description

As a part of The National Institute for Occupational Safety and Health (NIOSH) Pittsburgh Mining Research Division (PMRD) project Design of Proximity Systems for Underground Mobile Equipment, NIOSH researchers are looking to assess the current state of proximity systems being used by industry. In conjunction with performance based testing, researchers are examining the human factors aspects of the systems and their implementations. NIOSH is requesting a three-year OMB approval to collect information.

Striking, pinning, and crushing injuries are a serious concern in underground coal mining, especially around mobile equipment. Between 2010 and 2014 powered haulage accounted for 24 of the 110 underground coal fatalities (NIOSH, 2016). During that same time period, the Mine Safety and Health Administration (MSHA) determined that up to 9 of these fatalities were striking, pinning, or crushing accidents that may have been prevented by proximity detection systems on coal haulage machines or scoops (MSHA, 2016a). Following the final rule requiring proximity detection systems on continuous mining machines, on September 2, 2015, MSHA published a proposed rule requiring proximity systems on mobile machines in underground coal mines (MSHA, 2015a; 2015b). Though the rule is still under development, MSHA reported that by June of 2015, 155 of approximately 2,116 coal haulage machines and scoops had been equipped with proximity detection systems (MSHA, 2016b).

On January 9 of 2017, MSHA reopened the comment period for equipping underground mobile machines with proximity detection systems. MSHA reopened the comment period for two key reasons. First, MSHA reopened the comment period to explore any additional comments raised during or following the closing of the original comment period. Second, MSHA reopened the comment period to allow for comments on a field-report on proximity detection system utilization in South Africa, which was conducted following the original comment period and presented at the June 22, 2016 NIOSH Proximity Detection Partnership Meeting. Some of concerns raised were related to the potential risks that proximity detection systems on mobile equipment might pose for mine workers. The comments included risk such as those associated with performing routine maintenance and troubleshooting tasks, machine movements, which may result in pinning, crushing, or striking accidents, and sudden equipment stops which may harm machine operators.

NIOSH researchers are looking to determine the critical use cases for proximity systems on mobile equipment in underground mines. Researchers would like to answer the following questions: (1) In which situations do proximity detection systems on mobile haulage hinder normal operation? and (2) in which situations do proximity detection systems on mobile haulage endanger miners? Researchers are also interested in determining what factors should be considered related to human machine interfaces when implementing proximity systems on mobile equipment in underground mines. Specifically, researchers hope to answer the following questions: (1) What is the expected behavior of a proximity detection system on mobile haulage? and (2) What are the desired user features of a proximity detection system on mobile haulage?

Previously, NIOSH conducted a pilot study on proximity detection systems on mobile equipment used in underground coal mines. The pilot study involved determining the required stopping distances and times for mobile equipment. Findings from the pilot study identified a need for additional research related to the performance of proximity detection systems on mobile equipment. Even though the pilot study and related, subsequent studies offer findings, which may potentially compliment findings from the proposed study, these studies were not specifically designed to focus on human factors. Conversely, the proposed study focuses on human factors influencing the safety and effectiveness of proximity systems installed on underground mobile equipment.

The proposed research study involves conducting semi-structured interviews and optional observations of regularly assigned job duties with a maximum of 250 mining crew members. To recruit the mines, operators will be contacted. The recruitment conversation is expected to last 15 minutes.

Up to 250, 10-minute, semi-structured interviews will be conducted to collect workers' experiences with and perspectives on current proximity detection systems on mobile haulage equipment. To capture a variety of perspectives, various members of the section crews will be invited to participate in the interviews.

Prior to the interview, miners will be read a verbal informed consent and asked to give verbal affirmation that they agree to participate in the study. Workers that do not wish to participate will be given the opportunity to leave. Following the interviews, a subset of mine workers will be observed as a section crew of 7 to 13 individuals performing their normal duties for an hour during their shift. The observation component is optional for the individuals. Since the participant will be performing regular job duties during the observation, this does not require any additional time from the participant. To observe crew members in a designated section, researchers will obtain verbal consent from all miners who may be observed. If a crew member working in a designated section chooses to be excluded from the study, the section will not be observed. Observation will focus on general behavior with and around the proximity system.

The total estimated time burden is 44 hours. There are no costs to respondents other than their time.

Estimated Annualized Burden Hours
Type of respondents | Form name | Number of respondents | Number of responses per respondent | Average burden per response (in hours) | Total burden (in hours)
Mine Operators | Mine Recruitment Script | 6 | 1 | 15/60 | 2
Crew Members | Interview protocol | 250 | 1 | 10/60 | 42
Total |  |  |  |  | 44

Leroy A. Richardson,
Chief, Information Collection Review Office, Office of Scientific Integrity, Office of the Associate Director for Science, Office of the Director, Centers for Disease Control and Prevention.

[FR Doc. 2017-18814 Filed 9-5-17; 8:45 am]

BILLING CODE 4163-18-P